DEPARTMENT OF LABOR

Employment and Training Administration

[TA-W-38,479]

Eel River Sawmills, Inc., Fortuna, California; Notice of Termination of Investigation

Pursuant to Section 221 of the Trade Act of 1974, an investigation was initiated on December 26, 2000, in response to a petition filed by the company on behalf of workers at Eel River Sawmills, Inc., Fortuna, California.

The company has requested that the petition be withdrawn. Consequently, further investigation in this case would serve no purpose, and the investigation has been terminated.

Signed in Washington, DC, this 5th day of January, 2001.
Linda Poole,
Certifying Officer, Division of Trade Adjustment Assistance.

[FR Doc. 01-1896 Filed 1-22-01; 8:45 am]

BILLING CODE 4510-30-M